ENVIRONMENTAL PROTECTION AGENCY

[FRL-6533-4]

Science Advisory Board; Notification of Public Advisory Committee Meeting

Pursuant to the Federal Advisory Committee Act, Public Law 92-463, notice is hereby given that two committees of the USEPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office is included below.

1—Research Strategies Advisory Committee (RSAC)

The Research Strategies Advisory Committee (RSAC) of the Science Advisory Board (SAB), will meet on Wednesday, February 23, 2000 and Thursday, February 24, 2000 in the Madison Hotel, 15th and M Streets, NW, Washington, DC 20005; telephone number (202) 862-1600. The meeting will be held in the Arlington-Monticello Room and it will begin at 8:30 am and end no later than 5:00 pm on both days.

Charge to the Committee

The Science Advisory Board (SAB) has been asked to review and comment on the FY2001 Presidential Budget proposed for EPA's Office of Research and Development (ORD) and the overall Science and Technology (S&T) budget proposed for the EPA. The RSAC will consider how well the budget request: (a) Reflects priorities identified in the EPA and ORD strategic plans; (b) supports a reasonable balance in terms of attention to core research on multimedia capabilities and issues and to media-specific problem-driven topics; and (c) balances attention to near-term and to long-term research issues. In addition, the Committee will offer its advice on: (d) whether the objectives of the research and development program in ORD and the broader science and technology programs in EPA can be achieved at the resource levels requested; and (e) how can EPA use or improve upon the Government Performance and Results Act (GPRA) structure to communicate research plans, priorities, research requirements, and planned outcomes. A portion of the meeting will be devoted to development of the Committee's report.

FOR FURTHER INFORMATION: Members of the public desiring additional information about the meeting should contact Dr. Jack Fowle, Designated Federal Officer, Research Strategies Advisory Committee (RSAC), USEPA Science Advisory Board (1400A), Room 6450, 1200 Pennsylvania Avenue, NW, Washington, DC 20460; telephone/voice mail at (202) 564-4547; fax at (202) 501-0582; or via e-mail at <fowle.jack@epa.gov.> For a copy of the draft meeting agenda, please contact Ms. Wanda R. Fields, Management Assistant at (202) 564-4539 or by FAX at (202) 501-0582 or via e-mail at <fields.wanda@epa.gov>.

Materials that are the subject of this review are available from Mr. Mike Feldman of the Office of the Chief Financial Officer or from Mr. Lek Kadeli Office of Research and Development. Mr. Feldman can be reached on (202) 564-6951 or by e-mail at <feldman.mike@epa.gov> and Mr. Kadeli can be reached on (202) 564-6696 or via e-mail on <kadeli.lek@epa.gov>.

Providing Oral or Written Comments

Members of the public who wish to make a brief oral presentation to the Committee must contact Dr. Fowle in writing (by letter or by fax—see previously stated information) no later than 12 noon Eastern Time, Thursday, February 17, 2000 in order to be included on the Agenda. The request should identify the name of the individual who will make the presentation, the organization (if any) they will represent, any requirements for audio visual equipment (e.g., overhead projector, 35mm projector, chalkboard, etc), and at least 35 copies of an outline of the issues to be addressed or the presentation itself.

2—Environmental Economics Advisory Committee (EEAC)

The Environmental Economics Advisory Committee (EEAC) of the Science Advisory Board (SAB) will meet on Friday, February 25, 2000, at the Madison Hotel, 15th and M Streets, NW, Washington, DC 20005; telephone number (202) 862-1600. The meeting will be held in the Arlington-Monticello Room and it will begin at 9:00 am and end no later than 4:00 pm.

Purpose of the Meeting

The EEAC is meeting to consider and to provide advice and comment to EPA on its white paper entitled, Valuing Fatal Cancer Risk Reductions.

Background Information

The draft EPA Guidelines for Preparing Economic Analyses (Guidelines) provide information and guidance on the valuation of reduced mortality risks. They note that one practical means to value changes in mortality risks is to use the Value of a Statistical Life (VSL) approach. The Guidelines describe a number of important factors to consider in applying benefit transfer approaches using VSL estimates from the empirical literature on wage-risk tradeoffs. The Agency Guidelines, recognizing the importance of this benefit category, noted EPA's commitment to “continue to conduct annual reviews of the risk valuation literature” and “reconsider and revise the recommendations in these guidelines accordingly.” Further, EPA committed to “seek advice from the Science Advisory Board as guidance recommendations are revised.” The Agency is now returning to the SAB-EEAC to obtain additional counsel on this subject.

The importance of these issues was articulated in a recently proposed regulation to reduce human health risks from radon in drinking water. The proposed rule estimated the number of reduced fatal cancers resulting from different regulatory options. The Agency presented information on the economic values for the reductions in fatal cancer risks, along with other quantified benefits. A brief discussion of some of the benefit transfer issues involved in this estimation was published in the preamble to the proposed rule for setting standards for exposure to radon from drinking water sources (Federal Register, November 2, 1999 volume 64, Number 211, pages 59245-59378).

In the process of responding to reviews prepared during deliberations on the proposed radon rule, the Agency found that the Guidelines lack sufficient detail on how to fully evaluate and characterize the different risk attributes that are central to a complete understanding of the benefit-cost implications of this rule. For example, time can pass between the point of initial exposure to a carcinogen, the biological manifestation or onset of cancer in the body, the medical diagnosis of cancer, and death caused by the cancer. During development of policies affecting cancer risks, suggestions have been made to discount the VSL estimate to account for latencies, or the delay in time between reduced exposure and when the cancer death would have occurred absent the exposure reduction (even though latency periods may not be known or well-understood).

Others argued that a suitable approach for valuing benefits from reduced cancer risks must consider simultaneously all of the benefit transfer factors related to valuing cancer risks to ensure a careful and full treatment of benefits. There is evidence in the economics literature regarding many such factors (e.g., potential premiums ascribed to cancer risk reductions due to a higher willingness to pay to avoid the dread, pain and suffering, morbidity effects, and other features of cancer endpoints) that may suggest introducing upward adjustment factors which offset any potential downward adjustments caused by accounting for cancer latency. In addition, proponents argue that adjustments for the age of population at risk, income, altruism and other risk characteristics (e.g., controllability, voluntariness) can all have some potential influence on the value of a statistical cancer fatality (VSCF) and therefore need to be reflected in the quantitative benefit assessment.

While developing the primary benefit estimates for reduced fatal cancer risks in the proposed radon rule, questions arose regarding the implementation of adjustments for some factors, but not others. For example, would it ever be appropriate to adjust only for latency periods, and not other factors, in the valuation of reduced cancer deaths? The Agency is requesting the SAB's counsel to help answer this and related questions regarding the valuation of cancer risks.

Charge to the Committee

The Agency has requested a review by the SAB-EEAC of its “white paper” on approaches to estimating the benefits of reduced fatal cancer risks. The principal questions for the Science Advisory Board are:

(a) Does the white paper accurately describe the empirical economic literature relevant to the benefit transfer issues that ensue when using the VSL literature to estimate the VSCF in a benefit-cost analysis?

(b) Does the white paper present the important risk and demographic factors that can affect benefit transfer approaches that use VSL estimates for VSCF?

(c) Does the white paper accurately describe attempts in the economic literature to measure VSCF directly?

(d) There are two numeric case studies of environmental cancer risks developed for the white paper. Each presents risk assessment information that forms the basis for quantifying the number of statistical cancer fatalities that will be reduced as a consequence of a hypothetical proposed environmental policy. The case studies are used to illustrate the outcome of using direct measures of the VSCF and benefit transfer adjustments to VSL estimates in order to calculate the VSCF.

(1) Which of the valuation approaches applied to the case study designated as ALPHA are valid to use? Does this case study omit any credible alternative protocols for valuing reductions in fatal cancer risks for benefit-cost analyses of environmental programs?

(2) Which of the valuation approaches applied to the case study designated as OMEGA are valid to use? Does this case study omit any credible alternative protocols for valuing reductions in fatal cancer risks for benefit-cost analyses of environmental programs?

(e) Which economic methods illustrated with the case studies, or additional methods identified by the Committee under charge question d), serve as credible protocols for the Agency to use in representing quantitative data, qualitative information, and sensitivity analyses for the economic value of reduced fatal cancer risks reported in benefit-cost analyses?

FOR FURTHER INFORMATION: Members of the public desiring additional information about the meeting should contact Mr. Thomas Miller, Designated Federal Officer, Environmental Economics Advisory Committee (EEAC), USEPA Science Advisory Board (1400A), Room 6450, 1200 Pennsylvania Avenue, NW, Washington, DC 20460; telephone/voice mail at (202) 564-4558; fax at (202) 501-0582; or via e-mail at <miller.tom@epa.gov>. For a copy of the draft meeting agenda, please contact Ms. Dorothy Clark, Management Assistant at (202) 564-4537 or by FAX at (202) 501-0582 or via e-mail at <clark.dorothy@epa.gov>. Single copies of the background document, Valuing Fatal Cancer Risk Reductions can be obtained by contacting Mr. Brett Snyder, U.S. Environmental Protection Agency, Office of Policy and Reinvention (Mail Drop 2172), 1200 Pennsylvania Ave., NW, Washington, DC, 20460, (202) 260-5610, FAX (202) 260-2685, or via email at: <snyder.brett@epa.gov>.

Providing Oral or Written Comments

Members of the public who wish to make a brief oral presentation to the Committee must contact Mr. Thomas Miller, Designated Federal Officer for the Environmental Economics Advisory Committee, in writing (by letter or fax) no later than 4:00 pm Eastern Time, Thursday, February 17, 2000, at the address noted above in order to be included on the agenda. The request should identify the name of the individual who will make the presentation, the organization (if any) they will represent, any audio-visual equipment (e.g., overhead projector, 35 mm projector, chalkboard, etc.), and at least 35 copies of an outline of the issues to be addressed or the presentation itself. To discuss technical aspects of the meeting, please contact Mr. Miller by telephone at (202) 564-4558. For a copy of the draft agenda please contact Ms. Dorothy Clark, Management Assistant, at (202) 564-4537, or by FAX at (202) 501-0582 or via e-mail at <clark.dorothy@epa.gov>.

Providing Oral or Written Comments at SAB Meetings

The Science Advisory Board expects that public statements presented at its meetings will not be repetitive of previously submitted oral or written statements. In general, each individual or group making an oral presentation will be limited to a total time of ten minutes. Written comments (at least 35 copies) received in the SAB Staff Office sufficiently prior to a meeting date (usually one week before the meeting), may be mailed to the relevant SAB committee or subcommittee; comments received too close to the meeting date will normally be provided to the committee at its meeting, or mailed soon after receipt by the Agency. Written comments may be provided to the relevant committee or subcommittee up until the time of the meeting.

Additional information concerning the Science Advisory Board, its structure, function, and composition, may be found on the SAB Website (http://www.epa.gov/sab) and in the Annual Report of the Staff Director which is available from the SAB Publications Staff at (202) 564-4533 or via fax at (202) 501-0256.

Meeting Access

Individuals requiring special accommodation at this meeting, including wheelchair access, should contact the appropriate DFO at least five business days prior to the meeting so that appropriate arrangements can be made.

Dated: January 28, 2000.
Donald G. Barnes,
Staff Director, Science Advisory Board.

[FR Doc. 00-2477 Filed 2-3-00; 8:45 am]

BILLING CODE 6560-50-P